DEPARTMENT OF ENERGY

Federal Energy Regulatory Commission

[Docket No. CP01-80-000]

East Tennessee Natural Gas Company; Notice of Route and Site Review

April 13, 2001.

On April 25 through 27, 2001, the staff of the Office of Energy Projects (OEP) will conduct a route and site review of the proposed Murray Project. The Murray Project facilities are proposed for construction by East Tennessee Natural Gas Company (ETNG). The proposed pipeline routes and other facilities, located in Marshall, Bedford, Moore, Franklin, Grundy, Marion, Sequatchie, Hamilton, and McMinn Counties, Tennessee, and Catoosa, Whitfield, and Murray Counties, Georgia, will be reviewed by helicopter on April 25, 2001, and by automobile on April 26 and 27, 2001. Representatives of ETNG will accompany the OEP staff.

Anyone interested in attending the route and site review or obtaining further information may contact the Commission's Office of External Affairs at (202) 208-1088. Attendees must provide their own transportation.

David P. Boergers,
Secretary.

[FR Doc. 01-9707 Filed 4-18-01; 8:45 am]

BILLING CODE 6717-01-M